DEPARTMENT OF ENERGY

Federal Energy Regulatory Commission

[Docket No. RP03-371-001]

Destin Pipeline Company, L.L.C.; Notice of Compliance Filing

July 16, 2003.

Take notice that on July 10, 2003, Destin Pipeline Company, L.L.C. (Destin) tendered for filing as part of its FERC Gas Tariff, Original Volume No. 1, the revised tariff sheets as listed on Appendix A attached to the filing, to be effective July 1, 2003..

Destin states that purpose of this filing is to comply with the Commission's Letter Order issued on June 25, 2002, in Docket No. RP03-371-000.

Destin states that copies of this filing are being served on all parties to the proceeding in Docket No. RP03-371-000, affected shippers and applicable state regulatory agencies.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 22, 2003.

Magalie R. Salas,
Secretary.

[FR Doc. 03-18669 Filed 7-21-03; 8:45 am]

BILLING CODE 6717-01-P